SOCIAL SECURITY ADMINISTRATION

Statement of Organization, Functions and Delegations of Authority

This statement amends Part S of the Statement of the Organization, Functions and Delegations of Authority which covers the Social Security Administration (SSA). Notice is hereby given that Chapter S4 which covers the Office of the Deputy Commissioner, Systems, is being amended to reflect a reorganization. Notice is given that the following Subchapters are being deleted:

Subchapter S4G, The Office of Systems Design and Development

Subchapter S4J, The Office of Systems Planning and Integration

Subchapter S4K, The Office of Information Management

Subchapter S4N, The Office of Information Technology Architecture

Subchapter S4P, The Office of Systems Analysis

Notice is further given that the following Subchapters are being established:

Subchapter S4R, The Office of Disability and Supplemental Security Income

Subchapter S4S, The Office of Earnings, Enumeration and Administrative Systems

Subchapter S4V, The Office of Enterprise Support Architecture and Engineering

Subchapter S4W, The Office of Retirement and Survivors Insurance Systems

Also, Subchapter S4M, The Office of Systems Electronic Services is being amended to reflect a realignment. The Division of Client and Organizational Services Application Development (S4MB) is being abolished. The functions of this division are being distributed to two new divisions. The Division of Project Support (S4ME) is also being abolished. The functions of this division are moving to a new front office staff. The Office of Telecommunications and Systems Operations is excluded from this realignment. The new material and changes are as follows:

Section S4.00 The Office of the Deputy Commissioner, Systems—(Mission)

Replace: Mission Statement with the following:

The Office of the Deputy Commissioner, Systems (ODCS) directs the conduct of systems and operational integration and strategic planning processes, and the implementation of a comprehensive systems configuration management, data base management and data administration program. Initiates software and hardware acquisition for SSA and oversees software and hardware acquisition procedures, policies and activities. Directs the development of operational and programmatic specifications for new and modified systems, and oversees development, validation and implementation phases.

Section S4.10 The Office of the Deputy Commissioner, Systems—(Organization)

Replace: C. with the following:

C. The Immediate Office of the Deputy Commissioner, Systems (S4C).

1. The Budget Staff (S4C-1)

2. The Planning Staff (S4C-2)

3. The Systems Acquisition and Contract Management Staff (S4C-3)

Delete: E. through J.

Add: E. through I.

E. The Office of Systems Electronic Services (S4M).

F. The Office of Disability and Supplemental Security Income Systems (S4R).

G. The Office of Earnings, Enumeration and Administrative Systems (S4S).

H. The Office of Enterprise Support Architecture and Engineering (S4V).

I. The Office of Retirement and Survivors Insurance Systems (S4W).

Section S4.20 The Office of the Deputy Commissioner, Systems—(Functions)

Replace: C. with the following:

C. The Immediate Office of the Deputy Commissioner, Systems provides the Deputy Commissioner with management support on the full range of his/her responsibilities to include budget, planning, systems acquisition, audit liaison, and recruitment, administrative, and senior technical support.

1. The Budget Staff (S4C-1) develops the Information Technology Systems Budget for Systems, prepares the detailed budget submission and develops monitoring and tracking systems.

2. The Planning Staff (S4C-2) directs and conducts comprehensive integration and systems planning processes and is responsible for long-range planning and analyses to define new and improved systems processes in support of Agency requirements and maintains a comprehensive, updated and integrated set of system requirement specifications.

3. The Systems Acquisition and Contract Management Staff (S4C-3) is responsible for the technical and business review of Information Technology acquisitions and for the management of major Information Technology support service contracts for the Deputy Commissioner for Systems.

Delete: E. through J.

Add: E. through I.

E. The Office of Systems Electronic Services (OSES) (S4M) directs the development of the SSA-wide mission critical software applications that support the Agency's Electronic Service Delivery (ESD) initiatives. It performs long range planning and analysis, and the design, development, implementation and maintenance of eGovernment solutions in support of SSA's social insurance and income maintenance programs. These applications will provide access to SSA services over such service delivery channels as the Internet, Extranet, 800# and future direct service data collection channels. It provides a means for the public to have direct access to selected SSA services. It directs the coordination of general systems requirements definition among key SSA stakeholders, and representatives of the user community. It maintains a comprehensive software engineering program that provides tools, and a software infrastructure in support of SSA's eGovernment development goals. It defines the agency standards for Internet software development. It conducts software validation and testing for all Internet software solutions required to run on, or extract data from, any of SSA's host processor's or its mission critical systems and creates the necessary ESD management information to satisfy SSA's global management information requirements.

F. The Office of Disability & Supplemental Security Income Systems (ODSSIS) (S4R) directs, develops and coordinates information technology requirements, application programs and management information systems for new and modified systems in direct support of the SSI, Disability and Representative (Rep) Payee programs. ODSSIS is responsible for most phases in the systems development life cycle. These responsibilities include determining automation solutions for user needs, developing software systems specifications, analyzing existing computer applications, preparing recommendations (including costs and benefits of alternatives), software design and development, testing and validating systems, implementing security standards, documenting systems, accepting systems on behalf of SSA's user community and conducting post-installation evaluation. ODSSIS is responsible for long-range planning and analyses to define new and improved systems processes for ODSSIS in support of Agency needs and maintains a comprehensive, updated and integrated set of system requirement specifications and software programs. ODSSIS implements systems required by new legislation, regulations and SSA policy directives. Based on input from users, ODSSIS translates organizational information requirements and priorities into plans and, develops and maintains systems plans. ODSSIS validates computer programs that are part of SSA's large, integrated, programmatic systems against user-defined requirements and performance criteria, and approves the resulting system for operational acceptance. It develops procedures and instructions to support user needs in effective implementation of all systems.

G. The Office of Earnings, Enumeration and Administrative Systems (OEEAS) (S4S) designs, develops, and maintains SSA's earnings, enumeration and administrative systems. Responsibilities include the development of functional requirements for new systems and modifications to existing systems. The office evaluates the effect of proposed legislation, policies, regulations and management initiatives to determine the impact on these systems and develops information requirements and procedures as they relate to such legislation, regulations and SSA policy directives. It directs the coordination of user requirements with SSA central and regional operations to ensure that user needs are accurately captured and defined. The office develops automated solutions, including the procurement of commercial software products. It tests and validates software to assure that user requirements have been met, and conducts post-implementation reviews of new systems. The broad systems areas for which OEEAS is responsible include: enumeration (SSN) and verification, earnings establishment and employer data, integrity review and audit, work measurement, financial processing and accounting, human resource and payroll, a variety of workload control and tracking applications, and data exchanges with external entities.

H. The Office of Enterprise Support, Architecture and Engineering (OESAE) (S4V) identifies the strategic information technology resources needed to support SSA business processes and operations and the transition processes for researching, demonstrating and implementing new technologies in response to the Agency's strategic vision. The office develops policies and procedures to implement the Section 508 legislation Agency-wide. It incorporates user-centered design principles and techniques, including usability and accessibility testing, as an integral part of the systems development life cycle to ensure that the requirements of SSA's customers and users are being met. It directs the design, development and maintenance of SSA's information technology architecture program and directs SSA's data base integration activities to improve the administration of SSA's Programmatic and Management Information/Administrative data bases and to implement modern data base management systems technology. The office directs a comprehensive information technology architecture program to modernize the Agency's infrastructure and establishes enterprise policies for the management of all hardware and software. It develops and oversees the implementation of legislative initiatives, standards, methods and procedures for software planning, requirements, design, development and validation. OESAE plans and directs multi-platform software development facilities to support applications development and validation personnel. The office designs, develops, implements and maintains automated test methods, test data systems and test utilities for systems-level functional and user acceptance testing of programmatic, administrative and management information systems. It provides support for project management and control and resource management. OESAE develops the requirements for and performs security, functional security, and access control validations to ensure that the requirements have been properly integrated with SSA's programmatic and administrative systems. The office plans for, acquires and administers technical training for systems and non-systems personnel.

I. The Office of Retirement and Survivors Insurance Systems (ORSIS) (S4W) is responsible for programmatic and management information systems which support the Nation's Retirement and Survivors Insurance program and Medicare enrollment, including initial claims, post-entitlement, payments, audit, integrity review, Treasury operations and notices. ORSIS designs, develops, coordinates and implements new or redesigned software to meet SSA's automation needs in the broad area of title II programmatic processes for such areas as earnings, eligibility/entitlement, pay/computations and debt management. The Office is responsible for long-range planning and analysis to modify existing systems and define new systems for ORSIS in support of the Agency's mission and operational and management information needs. It evaluates the effect of proposed legislation, policies, regulations and management initiatives to determine the impact on these systems and develops requirements and procedures to implement required changes. ORSIS is responsible for both programmatic and management information applications through each stage of the systems lifecycle, including: determining automation solutions for user needs; developing software specifications; designing and developing software programs; testing and validating systems against user-defined requirements; conducting post-implementation reviews; implementing security standards; and maintaining a comprehensive, updated and integrated set of systems requirements, specifications and software documentation. Procedures and instructions are developed to support users in effectively implementing all systems.

Delete Subchapters S4E through S4P.

Add: Subchapters S4M, S4R, S4S, S4V and S4W:

Subchapter S4M

Office of Systems Electronic Services

{Private “TYPE=PICT; ALT=blue bar”}

S4M.00 Mission

S4M.10 Organization

S4M.20 Functions

Section S4M.00 The Office of Systems Electronic Services—(Mission)

The Office of Systems Electronic Services (OSES) directs the development of the SSA-wide mission critical software applications that support the Agency's Electronic Service Delivery (ESD) initiatives. It performs long range planning and analysis, and the design, development, implementation and maintenance of eGovernment solutions in support of SSA's social insurance and income maintenance programs. These applications will provide access to SSA services over such service delivery channels as the Internet, Extranet, 800# and future direct service data collection channels. It provides a means for the public to have direct access to selected SSA services. It directs the coordination of general systems requirements definition among key SSA stakeholders, and representatives of the user community. It maintains a comprehensive software engineering program that provides tools, and a software infrastructure in support of SSA's eGovernment development goals. It defines the Agency standards for Internet software development. It conducts software validation and testing for all Internet software solutions required to run on, or extract data from, any of SSA's host processor's or its mission critical systems and creates the necessary ESD management information to satisfy SSA's global management information requirements.

Section S4M.10 The Office of Systems Electronic Services— (Organization)

The Office of Systems Electronic Services (S4M), under the leadership of the Associate Commissioner for Systems Electronic Services, includes:

A. The Associate Commissioner for Systems Electronic Services (S4M).

B. The Deputy Associate Commissioner for Systems Electronic Services (S4M).

C. The Immediate Office of the Associate Commissioner for Systems Electronic Services (S4M).

1. The Project Support Staff (S4M-1)

D. The Division of Architecture and Support Software Development (S4MA).

E. The Division of Quality, Testing and Validation (S4MC).

F. The Division of Client Services Application Development (S4MG).

G. The Division of Organizational Services Application Development (S4MH).

Section S4M.20 The Office of Systems Electronic Services—(Functions)

A. The Associate Commissioner for Systems Electronic Services (S4M) is directly responsible to the Deputy Commissioner, Systems, for carrying out the OSES mission and providing general supervision to the major components of OSES.

B. The Deputy Associate Commissioner for Systems Electronic Services (S4M) assists the Associate Commissioner in carrying out his/her responsibilities and performs other duties as the Associate Commissioner may prescribe.

C. The Immediate Office of the Associate Commissioner for Systems Electronic Services (S4M) provides the Associate Commissioner and Deputy Associate Commissioner with administrative staff assistance, technology leadership, planning and customer relations support on the full range of his/her responsibilities.

1. The Project Support Staff (S4M-1):

A. Analyzes eGovernment requirements and needs of other OSES components, and provides appropriate systems support capability.

B. Provides standards, procedures, systems support and technical assistance to OSES project managers to facilitate preparation of work plans.

C. Directs review of project work plans to ensure completeness, compatibility with standards and managerial directives, and requirements and conformity to the ADP Plan and other management decisions.

D. Monitors OSES workloads, resource estimates and resource usage for eGovernment applications. Provides comprehensive resource information to DCS management to support workload priority decisions. Directs resource estimation and reporting processes for OSES.

E. Coordinates OSES input to Agency and DCS planning processes.

D. The Division of Architecture and Support Software Development (S4MA).

1. Develops and maintains the software engineering architecture appropriate for delivering eGovernment services to SSA's customers in accordance with the Agency's Electronic Service Delivery (ESD) Strategy.

2. Identifies and procures software tools necessary for the design, development, implementation and maintenance of SSA's eGovernment applications.

3. Designs, develops and maintains eGovernment framework components of the architecture for data interface, security, authentication, management information, audit and messaging objects.

4. Researches, evaluates and analyzes current and emerging technologies relevant to SSA's eGovernment architecture.

5. Designs, develops and maintains repositories to support eGovernment application development.

E. The Division of Quality, Testing and Validation (S4MC).

1. Develops project specific test plans in support of SSA's eGovernment strategy.

2. Performs front-end systems validations as necessary to support implementation of eGovernment software.

3. Develops, maintains, and implements quality control standards in support of the development of eGovernment software.

4. Designs, develops and maintains software for the testing, validation and quality control of eGovernment applications.

5. Works in conjunction with other SSA components in conducting pilots and focus groups testing eGovernment software prior to implementation.

F. The Division of Client Services Application Development (S4MG).

1. Plans, designs, develops and maintains Government-to-Client Internet software integral to SSA's eGovernment Internet strategy.

2. Plans, designs, develops and maintains Government-to-Client Internet software integral to SSA's eGovernment Extranet strategy.

3. Defines specific functional specifications in support of SSA's Government-to-Client eGovernment applications.

4. Coordinates SSA's Government-to-Client Internet applications development with legacy and management information systems.

G. The Division of Organizational Services Application Development (S4MH).

1. Plans, designs, develops and maintains Government-to-Government and Government-to-Business Internet software integral to SSA's eGovernment strategy.

2. Plans, designs, develops and maintains Government-to-Government and Government-to-Business Extranet software integral to SSA's eGovernment strategy.

3. Defines specific functional specifications in support of SSA's eGovernment applications.

4. Coordinates eGovernment applications development with legacy and management information systems.

Subchapter S4R

Office of Disability and Supplemental Security Income Systems

S4R.00 Mission

S4R.10 Organization

S4R.20 Functions

Section S4R.00 Office of Disability and Supplemental Security Income Systems (ODSSIS)—(Mission)

The Office of Disability and Supplemental Security Income Systems (ODSSIS) directs, develops and coordinates information technology requirements, application programs and management information systems for new and modified systems in direct support of the SSI, Disability and Representative (Rep) Payee programs. ODSSIS is responsible for most phases in the systems development life cycle. These responsibilities include determining automation solutions for user needs, developing software systems specifications, analyzing existing computer applications, preparing recommendations (including costs and benefits of alternatives), software design and development, testing and validating systems, implementing security standards, documenting systems, accepting systems on behalf of SSA's user community and conducting post-installation evaluation. ODSSIS is responsible for long-range planning and analyses to define new and improved systems processes for ODSSIS in support of agency needs and maintains a comprehensive, updated and integrated set of system requirement specifications and software programs. ODSSIS implements systems required by new legislation, regulations and SSA policy directives. Based on input from users, ODSSIS translates organizational information requirements and priorities into plans and develops and maintains systems plans.

ODSSIS validates computer programs that are part of SSA's large, integrated, programmatic systems against user-defined requirements and performance criteria, and approves the resulting system for operational acceptance. It develops procedures and instructions to support user needs in effective implementation of all systems.

Section S4R.10 Office of Disability and Supplemental Security Income Systems—(Organization)

The Office of Disability and Supplemental Security Income Systems (S4R), under the leadership of the Associate Commissioner for Disability and Supplemental Security Income Systems, includes:

A. The Associate Commissioner for Disability and Supplemental Security Income Systems (S4R).

B. The Deputy Associate Commissioner for Disability and Supplemental Security Income Systems (S4R).

C. The Immediate Office of the Associate Commissioner for Disability and Supplemental Security Income Systems (S4R).

D. The Division of SSI Processing Systems (S4RA).

E. The Division of SSI Management Systems (S4RB).

F. The Division of SSI Information Systems (S4RC).

G. The Division of Disability Processing Systems (S4RE).

H. The Division of Disability Management Systems (S4RG).

I. The Division of Disability Information Systems (S4RH).

J. The Division of Electronic Processing Support (S4RJ).

Section S4R.20 Office of Disability and Supplemental Security Income Systems—(Functions)

A. The Associate Commissioner for Disability and Supplemental Security Income Systems (S4R) is directly responsible to the Deputy Commissioner, Systems, for carrying out the ODSSIS mission and providing general supervision to the major components of ODSSIS.

B. The Deputy Associate Commissioner for Disability and Supplemental Security Income Systems (S4R) assists the Associate Commissioner in carrying out his/her responsibilities and performs other duties as the Associate Commissioner may prescribe.

C. The Immediate Office of the Associate Commissioner for Disability and Supplemental Security Income Systems (S4R) provides the Associate Commissioner and Deputy Associate Commissioner with administrative staff assistance, technology leadership, planning and customer relations support on the full range of their responsibilities.

D. The Division of SSI Processing Systems (S4RA):

1. Plans, analyzes, designs, develops, tests, validates, implements and evaluates programmatic data requirements, functional specifications, software, procedures, instructions and standards (including security and fraud detection) in conformance with SSA's software engineering environment for title XVI (SSI) and title XVIII processes. Edits new records and transactions; maintains and updates the SSI Master File to reflect changes; computes both the Federal SSI benefit and State supplementary payments; identifies and controls overpayment activity; and controls diaries.

2. With the technical assistance of the Office of Enterprise Support and Architecture Engineering (OESAE), plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-term SSI programmatic initiatives for Initial Claims and Post-entitlement Updates and Computations.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for SSI initial claims and post-eligibility operations, computation and record balancing operations.

6. Evaluates legislative proposals, regulations and policy changes affecting SSI and title VIII processes. Reports on the impact to those processes as well as on the short- and long-range plans.

7. Intercedes on behalf of users in resolving system discrepancies and errors relating to the existing SSI and title VIII process with representatives of other Office of Systems components.

8. Coordinates user requirements with SSA central and field offices and Federal and State agencies to ensure the efficiency and effectiveness of program information needs and overall systems support.

E. The Division of SSI Management Systems (S4RB):

1. Plans, analyzes, designs, develops, tests, validates, implements and evaluates programmatic data requirements, functional specifications, software, procedures, instructions and standards (including security and fraud detection) in conformance with SSA's software engineering environment for title XVI (SSI) and title XVIII processes including payment, internal interface, due process and redetermination operations. This includes updates to and selections from the Supplemental Security Income Record (SSR).

2. With the technical assistance of OESAE, plans and conducts unit and system-wide functional validation tests of newly developed systems and modifications to existing systems against user-defined requirements and performance criteria. Certifies that the changes are in conformance with functional specifications and with Agency regulations, policies, and procedures.

3. Participates in the development, maintenance and coordination of the overall approved SSA plans for fulfilling short-term and long-range programmatic systems. Develops plans as they relate to SSI & title VIII redeterminations, interfaces, due process & payments.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for SSI redeterminations, internal interfaces, due process and payments.

6. Evaluates legislative proposals, regulations and policy changes affecting SSI and title VIII processes. Reports on the impact to those processes as well as on the short- and long-range plans.

7. Intercedes on behalf of users in resolving system discrepancies and errors relating to the existing SSI and title VIII process with representatives of other Office of Systems components.

8. Coordinates user requirements with SSA central and field offices and Federal and State agencies to ensure the efficiency and effectiveness of program information needs and overall systems support.

F. The Division of SSI Information Systems (S4RC):

1. Plans, analyzes, designs, develops, tests, validates, implements and evaluates programmatic data requirements, functional specifications, procedures, instructions and standards (including security and fraud detection) in conformance with SSA's software engineering environment, for title XVI (SSI) and VIII Notices, SSI Interfaces and SSI Management Information.

2. With the technical assistance of OESAE Validation staff, plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic system development as they relate to SSI Notices, SSI Interfaces and SSI Management Information. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for SSI Notices, SSI Interfaces and SSI Management Information.

6. Evaluates legislative proposals, regulations and policy changes affecting SSI Notices, SSI Interfaces and SSI Management Information. Reports on the impact to those processes as well as on the short- and long-range plans.

7. Intercedes on behalf of users in resolving system discrepancies and errors relating to the existing SSI Notices, SSI Interfaces and SSI Management Information process with representatives of other Office of Systems components.

8. Coordinates user requirements with SSA central and field offices and Federal and State agencies to ensure the efficiency and effectiveness of program information needs and overall systems support.

G. The Division of Disability Processing Systems (S4RE):

1. Plans, analyzes, designs, develops, tests, validates, and implements new or redesigned software to meet SSA Disability Program needs. Also, evaluates programmatic information and data requirements, writes functional specifications, procedures, instructions and standards (including security and fraud detection) for the Disability program.

2. With the technical assistance of the OESAE, plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic system development as they relate to Disability.

4. Develops and maintains a comprehensive, updated and integrated set of system documentation, source code for programmatic software and requirements specifications and validation tests of systems changes against user requirements and performance criteria and certifies that changes are in conformance with specifications for assigned areas of responsibility.

5. Performs requirement analyses, defining SSA-approved user needs, determines system design alternatives and documents requirements for automated data processing services for Disability.

6. Evaluates legislative proposals, regulations and policy changes affecting SSA's Disability program. Reports on the impact to those processes as well as on the short- and long-range plans.

7. Intercedes on behalf of users in resolving system discrepancies and errors relating to the existing Disability process with representatives of other Office of Systems components.

8. Coordinates user requirements with SSA central and field offices and Federal and State agencies to ensure the efficiency and effectiveness of program information needs and overall systems support.

9. Supports Individual State Disability Determination Service offices automated systems development by establishing national practices and contracts and optional local area software. The Division evaluates State Disability Determination Systems development requests with the objective of integrating State efforts into overall SSA automation plans.

10. Resolves systems discrepancies and performance issues for all DDS offices, Federal and State. The State DDS systems interface with SSA central systems. The division is responsible for testing and validation of applications software that exchanges the required disability data between the offices involved.

H. The Division of Disability Management Systems (S4RG):

1. Plans, analyzes, designs, develops, tests, validates, and implements new or redesigned software to meet SSA Disability Program needs. Also, evaluates programmatic information and data requirements, writes functional specifications, procedures, instructions and standards (including security and fraud detection) for the Disability program, including service to the State Disability Determination Service (DDS) offices.

2. With the technical assistance of the OESAE, plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic system development as they relate to disability. This includes determining, classifying and ranking systems needs of all SSA components, and recommending final priorities for approval.

4. Develops and maintains a comprehensive, updated and integrated set of system documentation, source code for programmatic software and requirements specifications and validation tests of systems changes against user requirements and performance criteria and certifies that changes are in conformance with specifications for assigned areas of responsibility.

5. Performs requirement analyses, defining SSA-approved user needs, determines system design alternatives and documents requirements for automated data processing services for Disability.

6. Evaluates legislative proposals, regulations and policy changes affecting disability. Reports on the impact to those processes as well as on the short- and long-range plans.

7. Intercedes on behalf of users in resolving system discrepancies and errors relating to the existing disability process with representatives of other Office of Systems components.

8. Coordinates user requirements with SSA central and field offices and Federal and State agencies to ensure the efficiency and effectiveness of program information needs and overall systems support.

9. Supports individual State Disability Determination Service offices automated systems development by establishing national practices and contracts and optional local area software. The Division evaluates State Disability Determination Services development requests with the objective of integrating State efforts into overall SSA automation plans.

10. Resolves systems discrepancies and performance issues for all DDS offices, Federal and State. The State DDS systems interface with SSA central systems. The division is responsible for testing and validation of applications software that exchanges the required disability data between the offices involved.

11. Builds quality assurance computer systems for the payment stewardship, index of dollar accuracy (IDA) and other servicing quality assessment activities. These system help monitor all levels (initial, reconsideration, and hearing) of social security program administration.

I. The Division of Disability Information Systems (S4RH):

1. Produces automated solutions that provide management information supporting the Agency's Disability Insurance program. Designs, develops and maintains computer systems that collect, process and distribute Disability MI.

2. Designs, develops and maintains computer systems that support SSA's Hearings, Appeals, Litigation and Rep Payee workloads. Produces enterprise-wide automation solutions that provide for data capture workload control and management information for SSA's Title II and Title XVI Hearings, Appeals, Litigation and Rep Payee workloads.

3. Plans, analyzes, designs, develops, tests, validates, and implements new or redesigned software to meet SSA Rep Payee program needs. Also, evaluates programmatic information and data requirements, writes functional specifications, procedures, instructions and standards (including security and fraud detection) for the disability program, including service to the Office of Hearings and Appeals (OHA) and the Office of the General Counsel.

4. With the technical assistance of the OESAE, plans and conducts unit and system-wide functional validation tests of newly-developed systems and modifications to existing systems against user-defined requirements and performance criteria. Certifies that the changes are in conformance with functional specifications and with Agency regulations, policies, and procedures.

5. Participates in the development, maintenance and coordination of the overall approved SSA plans for fulfilling short-term and long-range programmatic system development as they relate to Hearings, Appeals, Litigation and Rep Payee. This includes determining, classifying and ranking systems needs of all SSA components, and recommending final priorities for approval.

6. Develops and maintains a comprehensive, updated and integrated set of system documentation, source code for programmatic software and requirements specifications and validation tests of systems changes against user requirements and performance criteria and certifies that changes are in conformance with specifications for assigned areas of responsibility.

7. Performs requirement analyses, defining SSA-approved user needs, determines system design alternatives and documents requirements for automated data processing services for Rep Payee.

8. Evaluates legislative proposals, regulations and policy changes affecting Rep Payee. Reports on the impact to those processes as well as on the short and long-range plans.

9. Intercedes on behalf of users in resolving system discrepancies and errors relating to the existing Rep Payee process with representatives of other Office of Systems components.

10. Coordinates user requirements with SSA central and field offices and Federal and State agencies to ensure the efficiency and effectiveness of program information needs and overall systems support.

11. Resolves systems discrepancies and performance issues for all OHA offices.

J. The Division of Electronic Processing Support (S4RJ):

1. Plans, analyzes, designs, develops, tests, validates, implements and evaluates programmatic data requirements, functional specifications, procedures, instructions and standards (including security and fraud detection) in conformance with SSA's software engineering environment for Hearings, Appeals, Litigation, and Customer Help and Information Program (CHIP).

2. With the technical assistance of OESAE, plans and conducts unit testing, integrated testing and unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic system development as they relate to Hearings, Appeals, Litigation, and CHIP. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for Hearings, Appeals, Litigation, and CHIP.

6. Evaluates legislative proposals, regulations and policy changes affecting Hearings, Appeals, Litigation, and CHIP software. Reports on the impact to those processes as well as on the short- and long-range plans.

7. Intercedes on behalf of users in resolving system discrepancies and errors relating to the existing Hearings, Appeals, Litigation, and CHIP processes with representatives of other Office of Systems components.

8. Coordinates user requirements with SSA central and field offices and Federal and State agencies to ensure the efficiency and effectiveness of program information needs and overall systems support.

Subchapter S4S

Office of Earnings, Enumeration and Administrative Systems

S4S.00 Mission

S4S.10 Organization

S4S.20 Functions

Section S4S.00 The Office of Earnings, Enumeration and Administrative Systems—(Mission)

The Office of Earnings, Enumeration and Administrative Systems (OEEAS) is responsible for the design, development, and maintenance of SSA's earnings, enumeration and administrative systems. Responsibilities include the development of functional requirements for new systems and modifications to existing systems. The office evaluates the effect of proposed legislation, policies, regulations and management initiatives to determine the impact on these systems and develops information requirements and procedures as they relate to such legislation, regulations and SSA policy directives. It directs the coordination of user requirements with SSA central and regional operations to ensure that user needs are accurately captured and defined. The office develops automated solutions, including the procurement of commercial software products. It tests and validates software to assure that user requirements have been met, and conducts post-implementation reviews of new systems.

The broad systems areas for which OEEAS is responsible include: enumeration (SSN) and verification, earnings establishment and employer data, integrity review and audit, work measurement, financial processing and accounting, human resource and payroll, a variety of workload control and tracking applications, and data exchanges with external entities.

Section S4S.10 The Office of Earnings, Enumeration and Administrative Systems—(Organization)

The Office of Earnings, Enumeration and Administrative Systems (S4S), under the leadership of the Associate Commissioner for Earnings, Enumeration and Administrative Systems, includes:

A. The Associate Commissioner for Earnings, Enumeration and Administrative Systems (S4S).

B. The Deputy Associate Commissioner for Earnings, Enumeration and Administrative Systems (S4S).

C. The Immediate Office of the Associate Commissioner for Earnings, Enumeration and Administrative Systems (S4S).

1. The Independent Verification and Validation Staff (S4S-1).

D. The Division of Measurement and Control Systems (S4SA).

E. The Division of Information and Integrity Systems (S4SB).

F. The Division of Financial and Human Resource Systems (S4SC).

G. The Division of Enumeration and Exchanges (S4SE).

H. The Division of Annual Wage Reporting and Balancing (S4SG).

I. The Division of Earnings Correction and Use (S4SH).

Section S4S.20 The Office of Earnings, Enumeration and Administrative Systems—(Functions)

A. The Associate Commissioner for Earnings, Enumeration and Administrative Systems (OEEAS) (S4S) is directly responsible to the Deputy Commissioner, Systems for carrying out OEEAS' mission and provides general supervision to the major components of OEEAS.

B. The Deputy Associate Commissioner for Earnings, Enumeration and Administrative Systems (S4S) assists the Associate Commissioner in carrying out his/her responsibilities and performs other duties as the Associate Commissioner may prescribe.

C. The Immediate Office of the Associate Commissioner for Earnings, Enumeration and Administrative Systems (S4S) provides the Associate Commissioner and Deputy Associate Commissioner with administrative staff assistance, technology leadership, planning and customer relations support on the full range of his/her responsibilities.

1. The Independent Verification and Validation Staff (S4S-1).

A. Responsible for using a system engineering process that employs a variety of software engineering methods, techniques, and tools for evaluating the correctness and quality of a software product throughout its life cycle to support OEEAS' project development.

B. Responsible for planning, validation, and implementation of the broad range of systems, methods, and procedures necessary to support the independent verification and validation of OEEAS' systems processes.

C. Develops project specific test/validation plans in support of OEEAS' systems.

D. Works closely with the component responsible for the Independent Validation Environment (IVEN) to schedule the execution of Independent Verification and Validation (IV&V) test/validation plans in support of OEEAS' projects.

E. Performs complete systems validations as necessary to support implementation of earnings, enumeration, administrative and control systems software. Provides the IV&V findings and recommendations to the project team and project manager.

F. Develops, maintains, and implements quality control standards in support of the development of earnings, enumeration, administrative and control systems.

G. Works in conjunction with other SSA components in conducting pilots and focus groups testing OEEAS systems prior to implementation.

D. The Division of Measurement and Control Systems (S4SA).

1. Performs requirements analyses and software development activities for control and tracking systems, and other administrative support systems.

2. Develops functional requirements and validations for audit and integrity review systems within programmatic applications and for SSA-wide work measurement systems.

3. Performs requirements analyses and develops earnings and enumeration management information application systems and enhancements to existing systems.

4. Performs requirements analyses, defining SSA-approved user needs and requirements for automated data processing services. Evaluates legislative proposals, regulations and policy changes and reports on the impact on existing processes and systems. Evaluates the need to develop new software.

5. Develops design specifications and software programs to satisfy user needs as defined in requirements documentation.

6. With the technical assistance of IV&V, plans and conducts unit and system-wide functional validation tests of newly-developed systems and modifications to existing systems against user defined requirements and performance criteria. Certifies that the changes are in conformance with functional specifications.

7. Develops and maintains a comprehensive, updated and integrated set of system documentation, requirements specifications and validation tests of systems changes against user requirements and performance criteria. Certifies that changes are in conformance with specifications for assigned areas of responsibility.

E. The Division of Information and Integrity Systems (S4SB)

1. Designs, develops, and implements application systems and enhancements to existing systems to support work measurement, quality assurance, integrity reviews and audit and internal controls.

2. Responsible for data warehouse development and maintenance in support of Agency systems. Maintains the data warehouse repository which houses data definition, calculations, and transformation and business rules in support of performance measures. Runs data mining software to identify patterns for potential fraud.

3. Performs requirements analyses, defining SSA-approved user needs and requirements for automated data processing services. Evaluates legislative proposals, regulations and policy changes and reports on the impact on existing processes and systems. Evaluates the need to develop new software.

4. Develops design specifications and software programs to satisfy user needs as defined in requirements documentation.

5. With the technical assistance of IV&V, plans and conducts unit and system-wide functional validation tests of newly-developed systems and modifications to existing systems against user defined requirements and performance criteria. Certifies that the changes are in conformance with functional specifications.

6. Develops and maintains a comprehensive, updated and integrated set of system documentation, requirements specifications and validation tests of systems changes against user requirements and performance criteria. Certifies that changes are in conformance with specifications for assigned areas of responsibility.

F. The Division of Financial and Human Resource Systems (S4SC).

1. Designs, develops, and implements administrative application systems and enhancements to existing systems in the broad areas of financial/budget, human resources and payroll processes.

2. Performs requirements analyses, defining SSA-approved user needs and requirements for automated data processing services. Evaluates legislative proposals, regulations and policy changes and reports on the impact on existing processes and systems. Evaluates the need to develop new software. Evaluates the potential application of Commercial-off-the-Shelf and Government-developed-off-the-Shelf software.

3. Develops design specifications and software programs to satisfy user needs as defined in requirements documentation.

4. With the technical assistance of IV&V, plans and conducts unit and system-wide functional validation tests of newly-developed systems and modifications to existing systems against user defined requirements and performance criteria. Certifies that the changes are in conformance with functional specifications.

5. Develops and maintains a comprehensive, updated and integrated set of system documentation, requirements specifications and validation tests of systems changes against user requirements and performance criteria. Certifies that changes are in conformance with specifications for assigned areas of responsibility.

G. The Division of Enumeration and Exchanges (S4SE).

1. Designs, develops and implements new or redesigned software to meet SSA's automated data processing needs in the broad area of enumeration and data exchanges.

2. Performs requirements analyses, defining SSA-approved user needs and requirements for automated data processing services for enumeration and data exchange. Evaluates legislative proposals, regulations and policy changes and reports on the impact on existing processes and systems. Evaluates the need to develop new software.

3. Develops design specifications and software programs to satisfy user needs as defined in requirements documentation.

4. With the technical assistance of IV&V, plans and conducts unit and system-wide functional validation tests of newly-developed systems and modifications to existing systems against user defined requirements and performance criteria. Certifies that the changes are in conformance with functional specifications.

5. Develops and maintains a comprehensive, updated and integrated set of system documentation, requirements specifications and validation tests of systems changes against user requirements and performance criteria. Certifies that changes are in conformance with specifications for assigned areas of responsibility.

H. The Division of Annual Wage Reporting and Balancing (S4SG).

1. Designs, develops and implements new or redesigned systems to meet SSA's automated data processing needs in the broad area of annual employer wage reporting.

2. Performs requirements analyses, defining SSA-approved user needs and requirements for automated data processing services. Evaluates legislative proposals, regulations and policy changes and reports on the impact on existing processes and systems. Evaluates the need to develop new software.

3. Develops design specifications and systems to satisfy user needs as defined in requirements documentation.

4. With the technical assistance of IV&V, plans and conducts unit and system-wide functional validation tests of newly-developed systems and modifications to existing systems against user defined requirements and performance criteria. Certifies that the changes are in conformance with functional specifications.

5. Develops and maintains a comprehensive, updated and integrated set of system documentation, requirements specifications and validation tests of systems changes against user requirements and performance criteria. Certifies that changes are in conformance with specifications for assigned areas of responsibility.

I. The Division of Earnings Correction and Use (S4SH).

1. Designs, develops, and implements new or redesigned systems to meet SSA's automated data processing needs in the broad area of correcting, maintaining and using earnings and employer data.

2. Performs requirements analyses, defining SSA-approved user needs and requirements for automated data processing services. Evaluates legislative proposals, regulations and policy changes and reports on the impact on existing processes and systems. Evaluates the need to develop new software.

3. Develops design specifications and systems to satisfy user needs as defined in requirements documentation.

4. With the technical assistance of IV&V, plans and conducts unit and system-wide functional validation tests of newly-developed systems and modifications to existing systems against user defined requirements and performance criteria. Certifies that the changes are in conformance with functional specifications.

5. Develops and maintains a comprehensive, updated and integrated set of system documentation, requirements specifications and validation tests of systems changes against user requirements and performance criteria. Certifies that changes are in conformance with specifications for assigned areas of responsibility.

Subchapter S4V

Office of Enterprise Support, Architecture and Engineering

S4V.00 Mission

S4V.10 Organization

S4V.20 Functions

Section S4V.00 Office of Enterprise Support, Architecture and Engineering—(Mission)

The Office of Enterprise Support, Architecture and Engineering (OESAE) identifies the strategic information technology resources needed to support SSA business processes and operations and the transition processes for researching, demonstrating and implementing new technologies in response to the Agency's strategic vision. The office develops policies and procedures to implement the Section 508 legislation Agency-wide. It incorporates user-centered design principles and techniques, including usability and accessibility testing, as an integral part of the systems development life cycle to ensure that the requirements of SSA's customers and users are being met. It directs the design, development and maintenance of SSA's information technology architecture program and directs SSA's data base integration activities to improve the administration of SSA's Programmatic and Management Information/Administrative data bases and to implement modern data base management systems technology. The office directs a comprehensive information technology architecture program to modernize the Agency's infrastructure and establishes enterprise policies for the management of all hardware and software. It develops and oversees the implementation of legislative and other initiatives, standards, methods and procedures for software planning, requirements, design, development and validation. OESAE plans and directs multi-platform software development facilities to support applications development and validation personnel. The office designs, develops, implements and maintains automated test methods, test data systems and test utilities for systems-level functional and user acceptance testing of programmatic, administrative and management information systems. It provides support for program/project management and control and resource management. OESAE develops the requirements for and performs security, functional security, and access control validations to ensure that the requirements have been properly integrated with SSA's programmatic and administrative systems. The office plans for, acquires and administers information technology training for systems and non-systems personnel.

Section S4V.10 Office of Enterprise Support, Architecture and Engineering—(Organization):

The Office of Enterprise Support, Architecture and Engineering (OESAE) (S4V), under the leadership of the Associate Commissioner for Enterprise Support, Architecture and Engineering, includes:

A. The Associate Commissioner for Enterprise Support, Architecture and Engineering (S4V).

B. The Deputy Associate Commissioners for Enterprise Support, Architecture and Engineering (S4V).

C. The Immediate Office of the Associate Commissioner for Enterprise Support, Architecture and Engineering (S4V).

D. The Division of Enterprise Architecture and Data Administration (S4VA).

E. The Division of Data Base Systems (S4VB).

F. The Division of Enterprise Software Engineering Infrastructure (S4VC).

G. The Division of Systems Engineering (S4VE).

H. The Division of Usability, Security and Application Support (S4VG).

I. The Division of Configuration Management and Validation Technology (S4VH).

Section S4V.20 Office of Enterprise Support, Architecture and Engineering—(Functions)

A. The Associate Commissioner for Enterprise Support, Architecture and Engineering (S4V) is directly responsible to the Deputy Commissioner, Systems, for carrying out the OESAE mission and providing general supervision to the major components of OESAE.

B. The Deputy Associate Commissioners for Enterprise Support, Architecture and Engineering (S4V) assist the Associate Commissioner in carrying out his/her responsibilities and perform other duties as the Associate Commissioner may prescribe.

C. The Immediate Office of the Associate Commissioner for Enterprise Support, Architecture and Engineering (S4V) provides the Associate Commissioner and Deputy Associate Commissioners with management assistance, technology leadership, planning, systems process improvement, customer relations, and support for legislation and other initiatives on the full range of their responsibilities.

D. The Division of Enterprise Architecture and Data Administration (S4VA).

1. Works with SSA technical staff to define application, data and infrastructure architectures.

2. Develops and provides the infrastructure to generate notices that meet SSA standards.

3. Supports the Online Notice Retrieval System (ONRS) and the Field Office Notice System (FONS).

4. Maintains the Central Language Repository for all notice language used by SSA.

5. Provides notice generation and formatting of manual notice processing.

6. Works with business components to identify and coordinate enterprise-wide technology needs and projects.

7. Directs the development of Systems-wide data and process administration policies, procedures and standards for the specific phases of the life cycle development process and development of methods to assure the quality of systems products.

8. Directs the integration of data and process models, as well as software designs.

9. Directs the development of requirements for standardizing data collection, storage and use across application areas.

10. Provides program expertise and process management direction and oversight for crosscutting segments for all SSA systems initiatives, legislative initiatives or projects involving the initiation, interpretation and/or the implementation of administrative and programmatic systems.

11. Provides a variety of high level coordinative, analytical, consultative and advisory services to SSA as a whole relative to very visible and complex systems initiatives.

E. The Division of Data Base Systems (S4VB).

1. Develops and maintains the Data Resource Management System which is the official repository of data and metadata for the SSA programmatic systems.

2. Develops and maintains the Master Data Access Method (MADAM) software that manages the major programmatic master files.

3. Directs the development and enforcement of technical standards and data resource policies.

4. Directs the establishment of automated documentation products and analytical products to support software engineering and data base integration.

5. Directs the definition of data storage architectures to support data management based upon performance characteristics and capabilities required in the SSA environment.

6. Directs the design, development (or acquisition), validation, and implementation of data base management systems and data support software.

7. Directs the design and development of new or modified software for accessing SSA data bases and files used in ADP processes; and directs the selection and implementation of commercial packages for this purpose.

8. Provides direction in the design, development and implementation of applications support software to facilitate interaction between data bases and applications software.

9. Provides direction in identifying techniques and tools that support data resource management as well as evaluating new data resource technology to the SSA environment.

10. Provides overall management and development of access to SSA's major master files.

11. Performs design, data base administration, and technical support of the major master files, and auxiliary programmatic applications files and data bases using multiple commercial database management systems.

12. Directs the analyses of SSA processes and software related to data usage and administration.

13. Directs the development of project plans reflecting the tasks and schedules required to implement data base management and data administration projects as designated by SSA's Software Modernization Plan.

14. Serves as the Agency focal point for technologies related to document imaging, electronic document management and electronic workflow processes.

15. Provides direction in the design, development and implementation of applications support software to facilitate interaction between document imaging and workflow processing and applications software.

16. Directs the definition of data and image management to facilitate workflow processing and re-engineering of processes to support data management based upon performance characteristics and capabilities required in the SSA environment.

F. The Division of Enterprise Software Engineering Infrastructure (S4VC).

1. Manages the multi-platform Software Engineering Facility (SEF) environment which includes Mainframe, Client Server/Web (Internet/Intranet) platforms, Server/Workstation and mobile computing configurations, SEF environment electronic mail, and transaction processing software configurations (e.g., CICS) which provide an integrated set of automated tools, techniques and services in support of SSA's application development and validation community.

2. Administers and engineers software engineering laboratory (SEL) facilities which provide a wide range of IWS/LAN based hardware and software solutions for developers and validators of Client/Server and Web-based (Internet/Intranet) applications. SEL provides test sites for Client/Server and web ideas, concepts, news technology and code without interfering with production Client/Server or Web-based systems. Facilities include real connections from the Internet into a pseudo web site allowing secure testing of live Internet technology, a simulated Internet inside the firewall allowing for complete multi-platform internet applications to be built, joint application design center for real time collaborative planning, analysis and design activities, labs for evaluating user centered design features and technology and complete testing facilities for employees with disabilities configurations.

3. Administers and engineers SEF environment servers, workstations, and mobile devices such as laptops for the software engineering components in Systems. This includes both hardware and software configurations used by application software engineers and their management.

4. Manages SSA's Information Center that provides technical support and guidance in client based technology, tools and products for the enterprise.

5. Manages and coordinates a security program for the SEF environment which includes administration/configuration and management of SEF environment security software, control of SEF environment access, security auditing; disaster recovery; Continuity of Operations Planning (COOP) for SEF server-based equipment, and coordination of security initiatives with other components.

6. Provides support for both programmatic and management information applications throughout each phase of the systems development life cycle including analysis, design, development, validation, testing, production and maintenance.

7. Provides automated software configuration management, quality control and library migration for all SEF environment platforms.

8. Provides technical assistance to users of the SEF environment that includes help desk and automated call tracking, technical information dissemination, and support for software tools used by the SSA programming community.

9. Serves as liaison between the SEF user community and the computer center to ensure that user needs are being met.

10. Conducts performance evaluation and capacity planning for SEF environment hardware and software to ensure that appropriate service levels are continuously maintained.

11. Conducts testing and performance impact analysis of new or upgraded software engineering tools before they are installed in the SEF environment.

12. Manages the SEF environment storage capacity including server and mainframe storage devices.

G. The Division of Systems Engineering (S4VE).

1. Assesses new technologies and plans for, acquires and administers information technology training for systems personnel. Maintains and operates the Systems training facilities.

2. Provides program/project management and integration support for DCS executives, managers and project teams. Develops and implements web-based systems and subsystems to communicate status, progress and problems for all “key” programs/projects.

3. Provides process analysis, re-engineering, and web development in support of SSA's Capital Planning and Investment Control, high-priority projects and Software Process Improvement (SPI) initiatives. Provides the facility and technical expertise to facilitate Joint Application Design for Systems.

4. Manages a modern multi-media center, the Systems Management Center (SMC), for the Deputy Commissioner for Systems. Schedules and provides technical support for meetings, conferences, teleconferencing/videoconferencing, vendor product demonstrations, etc. Develops multi-media presentations and productions.

5. Develops and supports a Technology Infusion Process lifecycle, a process for identifying and evaluating technologies that will enable SSA to achieve its strategic objectives.

6. Monitors, researches, and evaluates technologies related to achieving SSA's Service Vision.

7. Serves as the DCS entry point for providing Systems services to business components interested in demonstrating and evaluating the potential of new technologies to support SSA's service vision.

8. Designs, develops and implements Web sites for OESAE and DCS, i.e., the Project Resource Guide (PRIDE), the Architecture Review Board, information technology workforce planning, etc.

9. Provides QA oversight review for the Software Process Improvement program.

H. The Division of Usability, Security and Application Support (S4VG):

1. Establishes and coordinates efforts on Section 508 compliance and serves as a principal planner and advisor in the development of Agency and government-wide Section 508 directives, standards, specifications, policies, implementation strategies, management guidelines, procedures, practices and new developments and advanced techniques.

2. Performs a key role in very difficult assignments with responsibility and accountability as a technical authority and advisory in information technology accessibility, covering a wide range of technology and applications.

3. Integrates Section 508 accessibility needs into Agency budget plans, strategic plans and information technology capital plans.

4. Directs the user-centered design processes including usability and accessibility testing for software and web-based applications.

5. Develops OS Security Policy and Implementation Guidance, as needed.

6. Establishes and manages OS' ITS security awareness and training program, including developing and teaching some courses.

7. Provides a focal point for Financial Management Systems reviews and other audits/reviews not under the jurisdiction of the DCS audit liaison.

8. Manages routine security-related compliance activities (e.g., updating, reviewing and/or establishing sensitive systems security plans annually).

9. Responsible for Principal Security Officer functions for Systems.

10. Provides a Systems' focal point for Continuity of Operations (COOP) planning initiatives related to PDD 67 compliance.

11. Makes recommendations on security, audit, and internal control issues for all SSA programmatic and administrative systems, and ensures the implementation of security standards within all areas of component functional responsibilities. Develops methods to improve control and security features based on established standards and cost/benefit considerations.

12. Leads and/or coordinates reviews of programmatic processes and systems to identify weaknesses in control, audit-ability and security. Makes recommendations for improvement and coordinates activities with other SSA components to ensure that approved recommendations are implemented.

13. Manages a secure, service-oriented test facility responsible for providing automated support for fraud investigations, audits and analytical studies for OIG, GAO and all levels of SSA management.

14. Provides requirements for and performs security, functional security, and access control validations to ensure that the requirements have been properly integrated with SSA's programmatic and administrative systems.

15. Recommends and approves requests for systems access including TOP SECRET access.

16. Develops, implements and maintains personal computer applications to support software development/validation; e.g., the Problem and Issues Reporting System (PAIRS), Validation Transaction Tracking System (VTTS), METRIX Activity Reporting Subsystem (MARS), the TSTRAC (Top Secret Tracking System) system for automated control of security matrix changes, the Information Technology Systems Plan system, and various utility and administrative systems.

17. Provides a wide range of support for knowledge engineering tools, including CASE (Computer Aided Software Engineering) tools, used for requirements definition, management, and analysis. Support includes defining requirements, procuring, testing, upgrading, and integrating tools into the SSA environment and lifecycle. Develops guidelines, procedure manuals and course materials; providing direct consultative services to project teams; assists project teams in generating their lifecycle documentation and reports; and provides ongoing training.

18. Manages the acquisition, customization, license administration, and distribution of Commercial and Government Off-the-Shelf (COTS and GOTS) software providing support to software development staff. Provides or obtains technical support for tools.

I. The Division of Configuration Management and Validation Technology (S4VH):

1. Develops Office of Systems global software change control policies and practices.

2. Designs, develops, maintains and manages global repositories of systems development life cycle products.

3. Records and reports the status of software change request items and verifies the completeness of life cycle products.

4. Designs, develops, maintains and oversees automated software migration methods to ensure segregation of duties under the Federal Financial Management Improvement Act of 1996 (FFMIA).

5. Provides life cycle documentation to internal and external auditors on request.

6. Designs, develops and maintains publication methodologies for the Modernized Systems Operations Manual.

7. Designs, develops, implements, and maintains automated test methods, techniques, and procedures, test files, test databases, and tester productivity tools used in the systems-level functional, integration, acceptance and usability testing of SSA's programmatic, administrative, and management information systems.

8. Builds test systems that simulate the target production system within the parameters of SSA's Software Engineering Facility using in-house and commercially available software development tools and products.

9. Controls and executes systems-level functional tests of programmatic, administrative, and management information systems; ensures that the correct software versions are under test and provides appropriate test output for evaluation and systems acceptance and certification.

10. Develops test procedure specifications and test design specifications for use in systems-level functional testing.

11. Performs test case design for regression testing of programmatic systems.

12. Performs software quality assurance and quality control regarding test coverage and test risk analysis as they relate to management decisions to release new or modified software to the production environment.

13. Develops standards of functional testing and software validation for the Office of Systems.

14. Develops and manages the environment in which functional testing occurs.

15. Defines standards for test planning and participates, along with other Office of Systems components, in the development of test plans for systems-level functional testing.

16. Serves as the Manager for the Software Evaluation Stage of SSA's Software Engineering Environment and Systems Development Life Cycle.

Subchapter S4W

Office of Retirement and Survivors Insurance Systems

PRIVATE “TYPE=PICT;ALT=blue bar”

S4W.00 Mission

S4W.10 Organization

S4W.20 Functions

Section S4W.00 Office of Retirement and Survivors Insurance Systems—(Mission)

The Office of Retirement and Survivors Insurance Systems (ORSIS) is responsible for programmatic and management information systems which support the Nation's Retirement and Survivors Insurance program and Medicare enrollment, including initial claims, post-entitlement, payments, audit, integrity review, Treasury operations and notices. ORSIS designs, develops, coordinates and implements new or redesigned software to meet SSA's automation needs in the broad area of title II programmatic processes for such areas as earnings, eligibility/entitlement, pay/computations and debt management. The Office is responsible for long-range planning and analysis to modify existing systems and define new systems for ORSIS in support of the Agency's mission and operational and management information needs. ORSIS evaluates the effect of proposed legislation, policies, regulations and management initiatives to determine the impact on these systems and develops requirements and procedures to implement required changes. ORSIS is responsible for both programmatic and management information applications through each stage of the systems lifecycle, including: determining automation solutions for user needs; developing software specifications; designing and developing software programs; testing and validating systems against user-defined requirements; conducting post-implementation reviews; implementing security standards; and maintaining a comprehensive, updated and integrated set of systems requirements, specifications and software documentation. Procedures and instructions are developed to support users in effectively implementing all systems.

Section S4W.10 Office of Retirement and Survivors Insurance Systems—(Organization)

The Office of Retirement and Survivors Insurance Systems (S4W), under the leadership of the Associate Commissioner for Retirement and Survivors Insurance Systems, includes:

A. The Associate Commissioner for Retirement and Survivors Insurance Systems (S4W).

B. The Deputy Associate Commissioner for Retirement and Survivors Insurance Systems (S4W).

C. The Immediate Office of the Associate Commissioner for Retirement and Survivors Insurance Systems (S4W).

D. The Division of Notices and Management Information Systems (S4WA).

E. The Division of Payments & Accounting (S4WB).

F. The Division of Title 2 Eligibility (S4WC).

G. The Division of Title 2 Processing (S4WE).

H. The Division of Title 2 Control and Queries (S4WG).

Section S4W.20 Office of Retirement and Survivors Insurance Systems—(Functions)

A. The Associate Commissioner for Retirement and Survivors Insurance Systems (S4W) is directly responsible to the Deputy Commissioner, Systems, for carrying out the ORSIS mission and providing general supervision to the major components of ORSIS.

B. The Deputy Associate Commissioner for Retirement and Survivors Insurance Systems (S4W) assists the Associate Commissioner in carrying out his/her responsibilities and performs other duties as the Associate Commissioner may prescribe.

C. The Immediate Office of the Associate Commissioner for Retirement and Survivors Insurance Systems (S4W) provides the Associate Commissioner and Deputy Associate Commissioner with administrative staff assistance, technology leadership, planning and customer relations support on the full range of their responsibilities.

D. The Division of Notices & Management Information Systems (S4WA).

1. Designs, develops, coordinates and implements new or redesigned software to meet SSA's automated data processing needs in the broad area of specialized support for Notices.

2. Provides support for notice language development and maintenance, notice generation and formatting, manual notice processing and notice storage and retrieval.

3. Develops SSA-wide work measurement and performance management systems, as well as component work measurement systems for the field, State agencies and Regional Program and Integrity Review offices.

4. Develops audit and analyses of management information systems and reports to ensure adherence to users' and Agency needs, Federal and SSA guidelines and integrity standards.

5. Plans, develops and coordinates management information policy and integration among all involved SSA components, and plans for the transition to, and integration with, current SSA automated information systems and with those of the future.

6. Designs, develops, coordinates and implements new management information application systems and enhancements to existing systems which include workload management, work measurement, program demographics, earnings and employee/employer statistics, support quality assurance, audit, investigations, action tracking, and actuarial activities.

7. Designs, develops and implements enterprise-wide assignment tracking and document management applications in the IWS/LAN environment.

8. Develops systems to support the quality assurance and quality control reviews performed by the Office of Quality Assurance and Performance Assessment at the central office, regional office and satellite office level.

9. Manages the planning, validation and implementation of the broad range of systems, methods and procedures necessary to support the administrative or programmatic management information systems processes.

10. Performs user needs analyses and develops detailed functional requirements for SSA's mainframe and client server programmatic and administrative systems.

11. Manages ORSIS' project management process; provides standards, procedures, training and technical assistance to project managers.

E. The Division of Payments and Accounting (S4WB).

1. Responsible for the planning and analysis, design, development, testing, validation, implementation and evaluation of programmatic data requirements, functional specifications, new or redesigned software, instructions, procedures and standards needed to support title II infrastructure, Master Beneficiary Record updates, payments & accounting and debt management.

2. Designs, develops, coordinates and implements new or revised software to meet SSA's automated data processing needs in the area of data gathering, data base establishment and maintenance for programmatic post-entitlement, payments, debt management and Treasury operations.

3. Designs software to edit transactions, control in-process and stored transactions, produce monthly benefit payment information and yearly benefit payment statements and provide Treasury data.

4. Manages the planning, validation and implementation of the broad range of systems methods and procedures necessary to maintain payment and accounting systems.

5. Performs user needs analysis and develops detailed functional requirements for SSA's title II mainframe systems.

6. Conducts liaison with other SSA components and Federal agencies to determine feasibility and to plan development and implementation activities.

F. The Division of Title II Eligibility (S4WC).

1. Responsible for planning, analysis, design, development, testing, validation, implementation and evaluation of programmatic data requirements, functional specifications, new or redesigned software, instructions, procedures, and standards (including security and fraud detection), for title II (RSI) initial claims and post-entitlement systems processing, and for title XVIII Medicare enrollment, withdrawal and termination actions. Coordinates such processes with the Centers for Medicare and Medicaid (CMS).

2. Plans and conducts unit tests and system-wide functional validation tests of newly developed title II systems software, and modifications to existing systems software, against user-defined requirements and performance criteria. Certifies that the changes are in conformance with functional specifications and with Agency regulations, policies, and procedures.

3. Participates in the development, maintenance and coordination of the overall approved SSA plans for fulfilling short-term and long-range programmatic system development (the systems Information Technology (IT) Plans) as they relate to title II initial claims and post-entitlement/Medicare systems. This includes determining, classifying and ranking systems needs of all SSA components, and recommending final priorities for approval.

4. Develops and maintains a comprehensive, updated and integrated set of system documentation and requirements specifications, software libraries, and validation tests of systems changes against user requirements and performance criteria, and certifies that changes are in conformance with specifications for assigned areas of responsibility.

5. Performs requirement analyses, defining SSA-approved user needs and requirements for automated data processing services for title II initial claims and post-entitlement systems and Medicare systems. Prepares and performs service impact assessments, and software development plans for title II initial claims and post-entitlement systems and Medicare systems.

6. Evaluates legislative proposals, regulations, and policy changes affecting the title II initial claims and post-entitlement systems processes, and title XVIII Medicare systems processes. Reports on the impact to those processes as well as on short-term and long-range plans.

7. Intercedes on behalf of users in resolving system discrepancies and errors relating to the existing title II initial claims and post-entitlement process, or Medicare systems processes, with representatives of other Office of Systems components.

8. Coordinates user requirements and software delivery with SSA central and field offices and Federal and State agencies to ensure the efficiency and effectiveness of program information needs and overall systems support.

G. The Division of Title II Processing (S4WE).

1. Designs, develops, coordinates and implements new or redesigned software to meet SSA's automated data processing needs in the broad area of title II (Retirement and Survivors) programmatic processes for such areas as earnings eligibility/entitlement and pay/computations.

2. Provides the software to process the annual benefit rate increase (BRI) for all title II beneficiaries, the automated earning reappraisal operations (AERO) and the earnings enforcement operations.

3. Provides certified earnings records for the field offices and outside agencies.

4. Performs requirement analyses, defining SSA-approved user needs and requirements for automated data processing services for title II initial claims and post-entitlement systems and Medicare systems. Prepares and performs service impact assessments, and software development plans for title II initial claims and post-entitlement systems and Medicare systems.

H. The Division of Title II Control & Queries (S4WG).

1. Designs, develops, coordinates and implements new or redesigned software to meet SSA's automated data processing needs in the broad area of RSDI processing including batch transaction processing, PSC Action Control and data exchange for other SSA and non-SSA systems.

2. Designs software to edit incoming new records and transactions; control in-process transactions including PSC Action Control and OHA Case Control.

3. Develops queries and extracts software to retrieve and display transactions and Master Beneficiary Record-related data both in on-line and off-line environments.

4. Develops software to suspend benefits and produce alerts and notices for prisoners and pay bounties to prisons.

5. Develops software to update and maintain a variety of records which provide management, statistical and actuarial study data including epidemiological information.

Dated: May 21, 2002.
Jo Anne B. Barnhart,
Commissioner.

[FR Doc. 02-13412 Filed 5-29-02; 8:45 am]

BILLING CODE 4191-02-P